DEPARTMENT OF TRANSPORTATION

Federal Aviation Administration

Notice of Intent To Rule on Application 00-06-C-00-CRW To Impose and Use the Revenue From a Passenger Facility Charge (PFC) at Yeager Airport, Charleston, WV

AGENCY: Federal Aviation Administration (FAA), DOT.

ACTION: Notice of intent to rule on application

SUMMARY: The FAA proposes to rule and invites public comment on the application to impose and use the revenue from a PFC at Yeager Airport under the provisions of the Aviation Safety and Capacity Expansion Act of 1990 (Title IX of the Omnibus Budget Reconciliation Act of 1990) (Pub. L. 101-508) and Part 158 of the Federal Aviation Regulations (14 CFR part 158).

DATES: Comments must be received on or before July 13, 2000.

ADDRESSES: Comments on this application may be mailed or delivered in triplicate to the FAA at the following address: FAA Eastern Region, AEA-610, 1 Aviation Plaza, Jamaica, NY 11434-4809.

In addition, one copy of any comments submitted to the FAA must be mailed or delivered to Mr. Tim Murnahan, Assistant Director of The Central West Virginia Regional Airport Authority at the following address: 100 Airport Road, Suite 175, Charleston, WV 25311-1080.

Air carriers and foreign air carriers may submit copies of written comments previously provided to the Central West Virginia Regional Airport Authority under section 158.23 of Part 158.

FOR FURTHER INFORMATION CONTACT: Kenneth Kroll, AIP/PFC Team Leader, FAA Eastern Region, (AEA-610), 1 Aviation Plaza, Jamaica, NY 11434-4809, (718) 553-3357. The application may be reviewed in person at this same location.

SUPPLEMENTARY INFORMATION: The FAA proposes to rule and invites public comment on the application to impose and use the revenue from a PFC at Yeager Airport under the provisions of the Aviation Safety and Capacity Expansion Act of 1990 (Title IX of the Omnibus Budget Reconciliation Act of 1990) (Pub. L. 101-508) and Part 158 of the Federal Aviation Regulations (14 CFR Part 158).

On June 2, 2000, the FAA determined that the application to impose and use the revenue from a PFC submitted by Central West Virginia Regional Airport Authority was substantially complete within the requirements of section 158.25 of Part 158. The FAA will approve or disapprove the application, in whole or in part, no later than August 30, 2000.

The following is a brief overview of the application.

PFC Application No.: 00-0C-CRW.

Level of the proposed PFC: $3.00.

Proposed charge effective date: January 1, 2001.

Proposed charge expiration date: August 1, 2002.

Total estimated PFC revenue: $1,107,054.

Brief description of proposed projects(s):

—Acquire two snow plows

—Benefit cost Analysis

—Main Terminal Apron Expansion

—Acquire Snow Broom

—Environmental Assessment—Runway Safety Areas

—Emergency Generator connections

—Expand Main Terminal Building

—Two Loading bridges

—Passenger Access Tunnel

Class or classes of air carriers which the public agency has requested not be required to collect PFCs:

Under FAR Part 135—Charter Operators for hire to the general public

Under FAR Part 121—Charter Operators for hire to the general public

Any person may inspect the application in person at the FAA office listed above under FOR FURTHER INFORMATION CONTACT and at the FAA regional airports office located at: Airports Division, AEA-610, 1 Aviation Plaza, Jamaica, New York, 11434-04809.

In addition, any person may, upon request, inspect the application, notice and other documents germane to the application in person at the Central West Virginia Regional Airport Authority.

Issued in New York City, NY on June 2, 2000.
Thomas Felix,
Manager, Planning and Programming, Eastern Region.

[FR Doc. 00-14864 Filed 6-12-00; 8:45 am]

BILLING CODE 4910-13-M